DEPARTMENT OF TRANSPORTATION

Federal Aviation Administration

Public Notice for Waiver of Aeronautical Land-Use Assurance; Springfield-Beckley Municipal Airport, Springfield, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of 2 parcels of land, totaling approximately 69.525 acres. Current use and present condition is undeveloped land compatible with local commercial/industrial zoning classification. The land was acquired by the City of Springfield and has never had federal participation. There are no impacts to the airport by allowing the airport to sell the property. Subject land may provide good commercial/industrial development opportunities for the community and are well outside airport perimeter fence limits. Approval does not constitute a commitment by the FAA to financially assist in the sale of the subject airport property nor a determination of eligibility for grant-in-aid funding from the FAA. The disposition of proceeds from the sale of the airport property will be in accordance FAA's Policy and Procedures Concerning the Use of Airport Revenue, published in the Federal Register on February 16, 1999.

In accordance with section 47107 (h) of title 49, United States Code, this notice is required to be published in the Federal Register 30 days before modifying the land-use assurance that requires the property to be used for an aeronautical purpose.

DATES: Comments must be received on or before October 20, 2008.

FOR FURTHER INFORMATION CONTACT: Mr. Marion D. Peña, Program Manager, Federal Aviation Administration, Great Lakes Region, Detroit Airports District Office, DET-ADO 610, 11677 South Wayne Road, Romulus, Michigan 48174. Telephone Number (734) 229-2909/FAX Number (734) 229-2950. Documents reflecting this FAA action may be reviewed at this same location or at the Springfield-Eeckley Municipal Airport, Springfield, Ohio.

SUPPLEMENTARY INFORMATION: Following is a legal description of the property located in Springfield, Clark County, Ohio, and described as follows:

Parcel-1 Airpark Ohio Plat

46.664 Acres

Pt. 10-4-8, July 21, 2008

Situate in the State of Ohio, County of Clark, Township of Green and being part of Section 10, Town 4, Range 8, Between the Miami Rivers Survey and being described as follows:

Beginning at the southwesterly corner of Airpark Ohio Re-plat, Section 1 as recorded in the Plat Records of Clark County, Ohio;

Thence, 5 84° 12′ 39″ E, 954.81 feet;

Thence with the southerly extension of the east line of Green-Field Drive, S 04° 42′ 01″ W, 399.48 feet;

Thence, S 84° 12′ 14″ E, 1044.73 feet;

Thence, S 55° 02′ 29″ W, 2158.95 feet;

Thence, S 63° 34′ 33″ W, 333.14 feet;

Thence, N 04° 54′ 31″ E, 769.81 feet;

Thence with the future southerly line of the westerly extension of Green-Field Drive, N 85° 05′ 29″ W, 73.06 feet;

Thence, N 05° 33′ 48″ E, 1217.76 feet to the point of beginning and containing 46.664 acres subject, however, to all rights-of-way, easements and restrictions of record.

Being all of the proposed Airpark Ohio Section 2, Phase 1.

Parcel-2 Airpark Ohio Plat

22.861 Acres

Pt. 10-4-8, July 21, 2008

Situate in the State of Ohio, County of Clark, Township of Green and being part of Section 10, Town 4, Range 8, Between the Miami Rivers Survey and being described as follows:

Beginning at a point, S 05° 33′ 48″ W, 1092.75 feet from the southwesterly corner of the Airpark Ohio Replat, Section 1, as recorded in the Plat Records of Clark County, Ohio;

Thence, S 05° 33′ 48″ W, 125.01 feet;

Thence with the south line of the future westerly extension of Green-Field Drive, S 85° 05′ 29″ E, 73.06 feet;

Thence, S 04° 54′ 31″ W, 769.81 feet;

Thence, 5 63° 34′ 33″ W, 900.96 feet;

Thence with the centerline of West Jackson Road, N 85° 11′ 29″ W, 103.70 feet;

Thence with the west line of The City of Springfield Airport property, N 05° 14′ 41″ E, 1363.56 feet;

Thence with a north line of The City of Springfield Airport property, S 85° 05′ 18″ E, 793.68 feet to the point of beginning and containing 22.861 acres subject, however, to all rights-of-way, easements and restrictions of record.

Being all of the future Airpark Ohio Section 2 Phase 2 Plat.

Issued in Romulus, Michigan, on September 18, 2008.
Matthew J. Thys,
Manager, Detroit Airports District Office, FAA, Great Lakes Region.

[FR Doc. E8-24098 Filed 10-9-08; 8:45 am]

BILLING CODE 4910-13-M